FEDERAL ELECTION COMMISSION

Sunshine Act Meeting

FEDERAL REGISTER CITATION NOTICE OF PREVIOUS ANNOUNCEMENT: 87 FR 3109.

PREVIOUSLY ANNOUNCED TIME AND DATE OF THE MEETING: Tuesday, January 25, 2022 AT 10:00 a.m. and its Continuation at the Conclusion of the Open Meeting on January 27, 2022.

CHANGES IN THE MEETING: This meeting also discussed:

Matters relating to internal personnel decisions, or internal rules and practices.

Investigatory records compiled for law enforcement purposes and production would disclose investigative techniques.

* * * * *

FOR MORE INFORMATION CONTACT: Judith Ingram, Press Officer, Telephone: (202) 694-1220.

Authority: Government in the Sunshine Act, 5 U.S.C. 552b.

Vicktoria J. Allen,
Acting Deputy Secretary of the Commission.

[FR Doc. 2022-02066 Filed 1-28-22; 11:15 am]

BILLING CODE 6715-01-P